LEGAL SERVICES CORPORATION

Assessing the Goals in the Strategic Plan 2012-2016; Request for Comments

AGENCY: Legal Services Corporation.

ACTION: Request for comments.

SUMMARY: The Legal Services Corporation (“LSC”) Board of Directors (“Board”) is in the process of updating LSC's strategic plan for the years 2017-2020. The LSC Board is soliciting comments on the current LSC Strategic Plan 2012-2016 and whether the current goals remain suitable and timely and if new goals should be implemented.

DATES: All comments and recommendations must be received on or before the close of business on February 29, 2016.

ADDRESSES: You may submit comments by any of the following methods:

Agency Web site: http://www.lsc.gov/contact-us. Follow the instructions for submitting comments on this Notice under “Matters for Comment” on the Web site.

Email: LSCStrategicPlan@lsc.gov. Include “2012-2016 Strategic Plan Goals” in the subject line of the message.

Fax: (202) 337-6813.

Mail: Legal Services Corporation, 3333 K Street NW., Washington, DC 20007.

Instructions: All comments should be addressed to Rebecca Fertig Cohen, Chief of Staff, Legal Services Corporation. Include “2012-2016 Strategic Plan Goals” as the heading or subject line for all comments submitted.

FOR FURTHER INFORMATION CONTACT: Rebecca Fertig Cohen, cohenr@lsc.gov, (202) 295-1576.

SUPPLEMENTARY INFORMATION: As an entity created and funded by Congress, LSC has a duty to the American people to pursue its fundamental mission of equal access to justice. With this primary goal in mind, the LSC Board adopted a plan in 2012 setting forth the strategic goals that would guide LSC for five years, ending in 2016. The LSC Board is now in the process of updating and revising the strategic plan for an additional four year period. As part of this process, the LSC Board is seeking input from the public and interested stakeholders on whether the goals articulated in the current LSC strategic plan for 2012-2016, which is available at http://www.lsc.gov/sites/default/files/LSC/lscgov4/LSC_Strategic_Plan_2012-2016-Adopted_Oct_2012.pdf, are still suitable and timely and whether new goals, if any, should be considered. A summary of the goals follows.

The first and primary goal listed in the LSC strategic plan for 2012-2016 is to maximize the availability, quality, and effectiveness of the civil legal services that LSC's grantees provide to eligible low-income individuals. LSC identifies three avenues through which it can best accomplish this goal: (1) Identifying and replicating best practices associated with delivering high quality civil legal assistance to the poor by its grantees; (2) promoting the development and implementation of technologies that maximize the availability of legal information and assistance; and (3) expanding the availability of civil legal assistance through the most effective use of pro bono services and other private resources by LSC's grantees.

The second goal listed in the LSC strategic plan for 2012-2016 is to become a leading voice for civil legal services for poor Americans by providing national leadership and opportunities for collaboration with others committed to promoting civil legal services, including other funders of legal aid, governmental agencies, and judicial systems throughout the country.

The third and final goal listed in the LSC strategic plan for 2012-2016 is to achieve the highest standards of fiscal responsibility both for itself and its grantees. As a steward of congressional funds collected from the American taxpayer, LSC has a duty to be a prudent with the use of the resources allocated to it. LSC's goal is to comply with the parameters expressed by Congress and conform to the highest professional standards of fiscal transparency and accountability, both within the Corporation and in its fiscal oversight of those who receive funds from LSC.

Dated: January 15, 2016.
Stefanie K. Davis,
Assistant General Counsel.

[FR Doc. 2016-01221 Filed 1-21-16; 8:45 am]

BILLING CODE 7050-01-P